DEPARTMENT OF TRANSPORTATION

Federal Aviation Administration

14 CFR Part 71

[Docket No. FAA-2019-0267; Airspace Docket No. 18-ANM-8]

RIN 2120-AA66

Amendment of Area Navigation (RNAV) Routes Q-121 and Q-156; Miles City, MT

AGENCY: Federal Aviation Administration (FAA), DOT.

ACTION: Final rule.

SUMMARY: This action amends the legal descriptions of area navigation (RNAV) routes Q-121 and Q-156 by changing the name of one waypoint common to each route. Specifically, this action changes the TOUGH waypoint name to SWTHN in RNAV routes Q-121 and Q-156.

DATES: Effective date 0901 UTC, December 5, 2019. The Director of the Federal Register approves this incorporation by reference action under Title 1 Code of Federal Regulations part 51 subject to the annual revision of FAA Order 7400.11 and publication of conforming amendments.

ADDRESSES: FAA Order 7400.11D, Airspace Designations and Reporting Points, and subsequent amendments can be viewed online at http://www.faa.gov/air_traffic/publications/. For further information, you can contact the Airspace Policy Group, Federal Aviation Administration, 800 Independence Avenue SW, Washington, DC 20591; telephone: (202) 267-8783. The Order is also available for inspection at the National Archives and Records Administration (NARA). For information on the availability of FAA Order 7400.11D at NARA, email: fedreg.legal@nara.gov or go to https://www.archives.gov/federal-register/cfr/ibr-locations.html.

FOR FURTHER INFORMATION CONTACT: Kenneth Ready, Airspace Policy Group, Office of Airspace Services, Federal Aviation Administration, 800 Independence Avenue SW, Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it updates the legal descriptions of RNAV routes to avoid the use of similar sounding waypoint names.

Background

RNAV routes Q-121 and Q-156 both include the waypoint TOUGH in their descriptions. Q-156 also includes a waypoint named TUFFY. Recently, with the extensive use of the routes, air traffic control facilities have identified a problem whereby TOUGH is being confused with TUFFY. To eliminate any confusion and enhance safety, the FAA is changing the TOUGH waypoint name to SWTHN in the descriptions of both Q-121 and Q-156. This action is a name change only. The geographic position of the waypoint is not changing and the current alignments of Q-121 and Q-156 are not affected.

United States Area Navigation Routes are published in paragraph 2006, of FAA Order 7400.11D dated August 8, 2019, and effective September 15, 2019, which is incorporated by reference in 14 CFR 71.1. The RNAV route listed in this document will be subsequently published in the Order.

FAA Order 7400.11, Airspace Designations and Reporting Points, is published yearly and effective on September 15.

Availability and Summary of Documents for Incorporation by Reference

This document amends FAA Order 7400.11D, Airspace Designations and Reporting Points, dated August 8, 2019, and effective September 15, 2019. FAA Order 7400.11D is publicly available as listed in the ADDRESSES section of this document. FAA Order 7400.11D lists Class A, B, C, D, and E airspace areas, air traffic service routes, and reporting points.

The Rule

This action amends Title 14 Code of Federal Regulations (14 CFR) part 71 by changing the TOUGH waypoint name in the descriptions of RNAV routes Q-121 and Q-156 to SWTHN.

Since this action involves only editorial changes to the legal descriptions of RNAV routes and does not change the dimensions or operating requirements of the affected routes, I find that notice and public procedures under 5 U.S.C. 553(b) are unnecessary.

The RNAV route modifications accomplished by this action are outlined below.

Q-121: Q-121 change the TOUGH waypoint name from “TOUGH” to “SWTHN.”

Q-156: Q-156 change the TOUGH waypoint name from “TOUGH” to “SWTHN.”

Regulatory Notices and Analyses

The FAA has determined that this regulation only involves an established body of technical regulations for which frequent and routine amendments are necessary to keep them operationally current. It, therefore: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

Environmental Review

The FAA has determined that this airspace action of modifying two high altitude RNAV Q-routes by updating the waypoint name TOUGH to SWTHN has no potential to cause any significant environmental impacts, and no extraordinary circumstances exist that warrant preparation of an environmental assessment. Therefore, this proposed airspace action qualifies for categorical exclusion under the National Environmental Policy Act and its implementing regulations at 40 CFR part 1500-1508, and in accordance with FAA Order 1050.1F, Environmental Impacts: Policies and Procedures, paragraph 5-6.5a, which categorically excludes from further environmental impact review rulemaking actions that designate or modify classes of airspace areas, airways, routes, and reporting points (see 14 CFR part 71, Designation of Class A, B, C, D, and E Airspace Areas; Air Traffic Service Routes; and Reporting Points). In accordance with FAAO 1050.1F, paragraph 5-2 regarding Extraordinary Circumstances, this action has been reviewed for factors and circumstances in which a normally categorically excluded action may have a significant environmental impact requiring further analysis, and it is determined that no extraordinary circumstances exist that warrant preparation of an environmental assessment.

List of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order 7400.11D, Airspace Designations and Reporting Points, dated August 8, 2019, and effective September 15, 2019, is amended as follows:

Paragraph 2006 United States Area Navigation Routes.

Q-121 PARZZ, NV to SWTHN, MT [Amended]
PARZZ, NV | WP | (Lat. 41°36′14.64″ N, long. 115°02′09.69″ W)
Pocatello, ID (PIH) | VOR/DME | (Lat. 42°52′13.38″ N, long. 112°39′08.05″ W)
SWTHN, MT | WP | (Lat. 46°13′58.39″ N, long. 105°12′52.30″ W)
Q-156 AMDT STEVS, WA to ZZIPR, IA [Amended]
STEVS, WA | WP | (Lat. 47°14′54.49″ N, long. 120°32′09.93″ W)
ZAXUL, WA | FIX | (Lat. 47°10′02.58″ N, long. 120°02′41.75″ W)
FINUT, WA | WP | (Lat. 46°44′56.48″ N, long. 117°05′19.69″ W)
TUFFY, MT | FIX | (Lat. 46°42′29.02″ N, long. 114°05′01.34″ W)
UPUGE, MT | FIX | (Lat. 46°38′04.56″ N, long. 112°10′02.39″ W)
HEXOL, MT | FIX | (Lat. 46°36′49.09″ N, long. 111°09′20.70″ W)
SWTHN, MT | WP | (Lat. 46°13′58.39″ N, long. 105°12′52.30″ W)
JELRO, SD | FIX | (Lat. 45°48′43.83″ N, long. 102°51′46.96″ W)
KEKPE, SD | WP | (Lat. 45°17′54.91″ N, long. 100°16′49.04″ W)
UFFDA, MN | WP | (Lat. 44°29′46.00″ N, long. 096°05′25.00″ W)
HSTIN, MN | WP | (Lat. 44°00′08.00″ N, long. 093°57′40.00″ W)
ZZIPR, IA | WP | (Lat. 43°11′09.00″ N, long. 091°39′33.00″ W)

Issued in Washington, DC, on September 25, 2019.
Rodger A. Dean Jr.,
Manager, Airspace Policy Group.

[FR Doc. 2019-21193 Filed 9-30-19; 8:45 am]

BILLING CODE 4910-13-P